SECURITIES AND EXCHANGE COMMISSION

Sunshine Act Meetings

FEDERAL REGISTER CITATION OF PREVIOUS ANNOUNCEMENT: To Be Published.

PREVIOUSLY ANNOUNCED TIME AND DATE OF THE MEETING: Wednesday, December 2, 2020 at 2:00 p.m.

CHANGES IN THE MEETING: The Closed Meeting scheduled for Wednesday, December 2, 2020 at 2:00 p.m. has been changed to Wednesday, December 2, 2020 at 10:00 a.m. The following additional matter will also be considered during the Closed Meeting:

• Disclosure of non-public information

CONTACT PERSON FOR MORE INFORMATION: For further information and to ascertain what, if any, matters have been added, deleted or postponed, please contact Vanessa A. Countryman from the Office of the Secretary at (202) 551-5400.

Dated: November 25, 2020.
Eduardo A. Aleman,
Deputy Secretary.

[FR Doc. 2020-26550 Filed 11-27-20; 11:15 am]

BILLING CODE 8011-01-P